DEPARTMENT OF TRANSPORTATION

Pipeline and Hazardous Materials Safety Administration

[Docket No. PHMSA-2019-0141]

Pipeline Safety: Information Collection Activities

AGENCY: Pipeline and Hazardous Materials Safety Administration (PHMSA), DOT.

ACTION: Notice and request for comments.

SUMMARY: In accordance with the Paperwork Reduction Act of 1995, PHMSA invites comments on proposed revisions to the hazardous liquid accident report form and its associated instructions. Revisions are being proposed to PHMSA F 7000-1 Accident Report—Hazardous Liquid Pipeline Systems under OMB Control No. 2137-0047.

DATES: Interested persons are invited to submit comments on or before May 8, 2020.

ADDRESSES: Comments may be submitted in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2019-0141 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov, before submitting any such comments.

Docket: For access to the docket or to read background documents or comments, go to http://www.regulations.gov, at any time or to Room W12-140 on the ground level of DOT, West Building, 1200 New Jersey Avenue SE, Washington, DC, between 9:00 a.m. and 5:00 p.m., Monday through Friday, except federal holidays. If you wish to receive confirmation of receipt of your written comments, please include a self-addressed, stamped postcard with the following statement: “Comments on: PHMSA-2019-0141.” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: For general information, contact Angela Hill by telephone at 202-366-1246, by email at Angela.Hill@dot.gov, by fax at 202-366-4566, or by mail at DOT, PHMSA, 1200 New Jersey Avenue SE, PHP-30, Washington, DC 20590-0001.

SUPPLEMENTARY INFORMATION:

I. Background

Section 1320.8(d), Title 5, Code of Federal Regulations, requires PHMSA to provide interested members of the public and affected entities an opportunity to comment on information collection and recordkeeping requests. This notice identifies changes to information collections that PHMSA will be submitting to OMB.

PHMSA F 7000-1 Accident Report—Hazardous Liquid Pipeline Systems

PHMSA proposes to reorganize the existing questions and add more detailed questions about accident response, accident consequences, operating conditions, cause, and contributing factors.

1. Change Form Name

PHMSA proposes changing the name of the form to “Accident Report—Hazardous Liquid and Carbon Dioxide Systems”. This change would more accurately describe the types of pipelines for which this form should be used.

2. Time Zone and Daylight Savings

PHMSA proposes adding the time zone and daylight savings status at the location and time of the accident. This data would help PHMSA correlate our accident investigation findings with the form.

3. Operational Status

PHMSA proposes collecting the operational status of the pipeline system at the time the operator identified the failure. On the current form, there is an assumption that the pipeline was in service at the time the operator identified the failure, but this is often not the case. This change would help stakeholders understand the status of the pipeline and clarify the pipeline shutdown data.

4. Part A Reorganization and Detailed Questions About Accident Response

PHMSA proposes reorganizing existing questions to help detail the sequence of operator actions and interactions as the accident proceeds. For example, how the operator first learned of the pipeline failure is currently collected in part E. PHMSA proposes to move this item to Part A. PHMSA also proposes adding new items to build a complete timeline including interactions with emergency responders, spill response resources, and details about ignition. This data would help stakeholders develop a more thorough understanding of the accident.

5. Multiple National Response Center Reports

During response to accidents, pipeline operators often submit multiple reports to the National Response Center (NRC). In these instances, PHMSA proposes to collect each NRC report number. This change would help PHMSA correlate our accident investigation findings with the form.

6. Flow Control and Valve Closures

PHMSA proposes adding questions about initial actions the operator took to control the flow of products to the failure location. When valves are used, PHMSA proposes collecting the date and time of the valve closure. This change would implement a Government Accountability Office (GAO) recommendation from GAO-13-168 “Pipeline Safety: Better Data and Guidance needed to Improve Pipeline Operator Accident Response.” This change would allow stakeholders to understand the actions taken by the operator to control the flow of products during accident response and collect data about the elapsed time to valve closure.

7. Area of Accident

PHMSA proposes adding “exposed due to loss of cover” as a selection for the area of accident when “Underground” is selected. For pipelines installed underground and eventually exposed, the current form is not clear about whether “Underground” or “Aboveground” should be selected. Adding “Exposed due to loss of cover” as an underground option clarifies how to report the accident. This change would improve the consistency of reports.

8. Date of Water Crossing Evaluation

PHMSA proposes adding a question to collect the date of the most recent evaluation of the water crossing. These formal evaluations can provide information critical to protecting the integrity of water crossings. This change would provide stakeholders with visibility of this critical information.

9. Outer Continental Shelf Regions

PHMSA proposes collecting the Outer Continental Shelf (OCS) region when an accident occurs on the OCS. This change would provide stakeholders with a more precise location of the accident.

10. Item Involved and Age of Failed Item

PHMSA proposes modifying the selections for the item that failed. These modifications would reduce the number of times “Other” is selected and allow a more meaningful analysis of the data.

PHMSA proposes collecting both the date of manufacture and the date of installation for the failed item. This would allow stakeholders to understand both the age of the failed item and how long it had been in service.

11. Details About Consequences

Departmental guidelines for determining the benefit of proposed regulations (http://www.transportation.gov/sites/dot.dev/files/docs/VSL%20Guidance%202013.pdf) include a table of relative values based on the severity of injury. PHMSA's forms currently collect the number of injured persons requiring in-patient overnight hospitalization. PHMSA proposes adding two less severe categories to the forms; injuries treated in a medical facility and injuries treated on-site. This data would enable a more thorough determination of the benefit of proposed regulations.

PHMSA proposes to collect information on the volume of product consumed by fire. PHMSA already collects data about the volume of product released and whether ignition occurred. However, PHMSA cannot identify the volume of product burned. This data would allow PHMSA to more accurately determine the social cost of carbon and benefit of future proposed regulations.

PHMSA proposes to collect data on the number of buildings affected by the accident. On the current forms, the property damage values do not include any details about the type of property damaged. This data would provide more details about the consequences of the accident and enable a more thorough determination of the benefit of future proposed regulations.

12. Establishing Maximum Pressure and Flow Reversals

PHMSA proposes adding the method used by the operator to establish the maximum pressure for the pipeline system and the date the maximum pressure was established. Operators would choose from the six methods listed in 49 CFR 195.406. While each of the methods for establishing the maximum pressure meet the regulatory requirement, safety factors may differ between the methods. This data would help stakeholders identify the pipeline's maximum pressure methods with the specific safety factor.

PHMSA also proposes adding a question about flow reversals. This data would help stakeholders have a better understanding of whether a flow reversal may have impacted the maximum pressure.

13. Length of Segment Isolated

PHMSA proposes modifying the question about the length of pipeline isolated during accident response. In the current form, an assumption is made that valve closures will always be used to initially control flow to the failure location. This change would clarify the length to be reported when valves are not used to initially control flow to the failure location.

14. External Corrosion and Stray Current

PHMSA proposes collecting additional details when stray current is the cause of external corrosion. PHMSA also proposes to clarify the conditions under which external corrosion cathodic protection is expected. This data would help stakeholders better understand the cause of external corrosion.

15. Natural Force Damage Additional Sub-Cause

PHMSA proposes adding tree root damage as a sub-cause in the natural force damage cause category. This addition would reduce the number of accidents reported with a cause of “Other.”

16. Excavation Details For All Excavation Damage

In the current form, when a third party causes the excavation damage, PHMSA collects details about the excavation work. PHMSA proposes collecting details about the excavation work when the cause of the damage is first, second, or third party. When pipeline operator employees are excavating, and damage their own pipeline, the damage is considered first party. When an excavator is working under contract for the pipeline operator and damages the operator's pipeline, they are considered a second party. First and second party excavation details would allow stakeholders to understand the type of excavation work being performed by any party causing the excavation damage.

The Common Ground Alliance recently changed the data structure for its Damage Information Reporting Tool (DIRT). PHMSA proposes updating the PHMSA accident report to match the revised DIRT data structure.

17. State Damage Prevention Law Exemptions

PHMSA proposes adding information about exemptions from state damage prevention laws when the cause of the accident is excavation damage. This data would help stakeholders identify states in which damage prevention law exemptions may be associated with more frequent excavation damage to pipelines.

18. Material Failure Cause Changes

When material failure of a pipe or weld causes the accident, a sub-cause must be chosen. Errors in the design of pipeline facilities cause some accidents, but currently, design is not included in any sub-cause. PHMSA proposes adding design to the “Construction-, Installation-, or Fabrication-related” sub-cause. This change would reduce the number of reports with a cause of “Other.”

PHMSA proposes adding “Hard Spot” as another environmental cracking option. This is another type of environmental cracking that should be available for selection. This change would reduce the number of reports with a cause of “Other.”

PHMSA proposes adding a question to collect the post-construction pressure test value. When the pipe or a weld fails, the value of the post-construction pressure test is important to determining if the cause of the failure might have been present since original construction. This change would provide additional data to determine the cause of the pipe or weld failure.

19. Additional Integrity Inspection Data

PHMSA proposes collecting two sets of in-line inspection (ILI) results. Under PHMSA regulations, operators conduct multiple rounds of integrity inspections. This change would provide a history of ILIs rather than just the most recent. The additional inspection data may provide insights into the effectiveness of the various types of ILIs.

Also, in the current form, the same set of integrity inspection questions appear in four different cause sections. Only one cause can be selected so three sets of these questions are redundant. PHMSA proposes having the questions appear once. PHMSA would also adjust existing reports to have the questions appear only once. This change would simplify the form by reducing the number of distinct data fields.

PHMSA proposes collecting the type of direct assessment when this inspection method has been implemented. The additional inspection data may provide insights about the effectiveness of the various types of direct assessments.

20. Contributing Factors

Pipeline operators currently select only one cause on the form. Factors contributing to, but not causing, an accident are often relevant to preventing future accidents. PHMSA proposes collecting data about contributing factors. The proposal is similar to a recommendation made by the National Transportation Safety Board (NTSB) in a January 2015 safety study report which can be viewed at http://www.ntsb.gov/safety/safety-studies/Documents/SS1501.pdf. Collection of information on contributing factors in addition to the apparent cause would help stakeholders develop a more thorough understanding of the accident and ways to prevent future accidents.

II. Summary of Impacted Collection

Section 1320.8(d), Title 5, Code of Federal Regulations, requires PHMSA to provide interested members of the public and affected agencies an opportunity to comment on information collection and recordkeeping requests. This notice identifies an information collection request that PHMSA will submit to OMB for renewal. PHMSA expects many of the new data elements are already known by the operator and no report requires the completion of all fields on the forms. PHMSA has estimated the burdens below by adding 20% to the previous burdens—12 hours instead of 10.

The following information is provided for this information collection: (1) Title of the information collection; (2) OMB control number; (3) Current expiration date; (4) Type of request; (5) Abstract of the information collection activity; (6) Description of affected public; (7) Estimate of total annual reporting and recordkeeping burden; and (8) Frequency of collection. PHMSA will request a three-year term of approval for this information collection activity. PHMSA requests comments on the following information:

1. Title: Transportation of Hazardous Liquids by Pipeline: Recordkeeping and Accident Reporting.

OMB Control Number: 2137-0047.

Current Expiration Date: 01/31/2023.

Type of Request: Revision.

Abstract: This information collection covers recordkeeping and accident reporting by hazardous liquid pipeline operators who are subject to 49 CFR part 195. Section 195.50 specifies the definition of an “accident” that must be reported to PHMSA and the reporting criteria for submitting a Hazardous Liquid Accident Report (form PHMSA F 7000-1) is detailed in § 195.54. PHMSA is proposing to revise the form and instructions for PHMSA F 7000-1 for editorial and clarification purposes.

Affected Public: Hazardous liquid pipeline operators.

Annual Reporting and Recordkeeping Burden:

Annual Responses: 1,232.

Annual Burden Hours: 53,229.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: Authority: The Paperwork Reduction Act of 1995; 44 U.S.C. Chapter 35, as amended; and 49 CFR 1.48.

Issued in Washington, DC, on March 3, 2020, under authority delegated in 49 CFR 1.97.
Alan K. Mayberry,
Associate Administrator for Pipeline Safety.

[FR Doc. 2020-04734 Filed 3-6-20; 8:45 am]

BILLING CODE 4910-60-P